DEPARTMENT OF AGRICULTURE

Forest Service

Information Collection; Foreign Travel Proposal

AGENCY: Forest Service, USDA.

ACTION: Notice; request for comment.

SUMMARY: In accordance with the Paperwork Reduction Act of 1995, the Forest Service is seeking comments from all interested individuals and organizations on the extension, with revision, of a currently approved information collection, Foreign Travel Proposal.

DATES: Comments must be received in writing on or before August 30, 2011 to be assured of consideration. Comments received after that date will be considered to the extent practicable.

ADDRESSES: Comments concerning this notice should be addressed to: USDA, Forest Service, Attn: Sandra Farber, International Programs Staff, P.O. Box 96090, Mail Stop 1127, Washington, DC 20090-6090.

Comments also may be submitted via facsimile to 540-659-4670, or by e-mail to: sfarber@fs.fed.us.

The public may inspect comments received at 1099 14th Street, NW., Suite 5500W, Washington, DC 20005, during normal business hours. Visitors are encouraged to call ahead to 202-273-4695 to facilitate entry to the building.

FOR FURTHER INFORMATION CONTACT: Sandra Farber, U.S. Forest Service International Programs, 540-659-2973. Individuals who use telecommunication devices for the deaf (TDD) may call the Federal Relay Service (FRS) at 1-800-877-8339 twenty-four hours a day, every day of the year, including holidays.

SUPPLEMENTARY INFORMATION:

Title: Foreign Travel Proposal.

OMB Number: 0596-216 Expiration Date of Approval: 11/30/2011.

Type of Request: Extension with Revision.

Abstract

1. Information is needed to complete requests for foreign travel by U.S. Government employees and contractors. This information is required by the U.S. State Department, other USDA agencies and foreign embassies here in Washington, DC for passport issuance and visas.

2. All information is obtained from the traveler on the Foreign Travel Proposal.

3. Information is collected by the U.S. Forest Service, International Programs, Travel Office staff.

4. Other than normal travel requests, personal information such as date of birth, place of birth and the last four (4) digits of the social security number for employees and place of birth for contractors.

5. Each traveler submitted the form.

6. The Information collected is transferred into forms to be submitted to the U.S. State Department Passport Office, forms to the USDA Foreign Agriculture Service and into visa applications submitted to foreign embassies, for the purpose of obtaining passports and visas for the traveler.

7. U.S. Forest Service, International Programs, Travel Office.

8. Travelers will not be permitted to travel. We do not retain this information and is shredded after each trip, so a new request is required for every trip.

Estimate of Annual Burden: 15 minutes.

Type of Respondents: U.S. Government employees and or contractors.

Estimated Annual Number of Respondents: 200 individuals.

Estimated Annual Number of Responses per Respondent: This depends on how many trips the respondent takes.

Estimated Total Annual Burden on Respondents: 250 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 28, 2011.
Kathleen Atkinson,
Associate Deputy Chief, Business Operations.

[FR Doc. 2011-16652 Filed 6-30-11; 8:45 am]

BILLING CODE 3410-11-P